DEPARTMENT OF ENERGY

Federal Energy Regulatory Commission

[Docket No. IC25-7-000]

Commission Information Collection Activities (FERC Form Nos. 1, 1-F, and 3-Q); Comment Request; Extensions

AGENCY: Federal Energy Regulatory Commission.

ACTION: Notice of information collection and request for comments.

SUMMARY: In compliance with the requirements of the Paperwork Reduction Act of 1995 (PRA), the Federal Energy Regulatory Commission (Commission or FERC) is soliciting public comment on the currently approved information collections, FERC Form Nos. 1 (Annual Report of Major Electric Utilities, Licensees, and Others), 1-F (Annual Report for Nonmajor Public Utilities and Licensees), and 3-Q (Quarterly Financial Report of Electric Utilities, Licensees, and Natural Gas Companies). The Commission published a 60-day notice in the Federal Register on February 7, 2025. Twelve parties filed comments.

DATES: Comments on the collections of information are due July 21, 2025.

ADDRESSES: Send written comments on FERC Form Nos. 1, 1-F, and 3-Q to OMB through:

• FERC Information Collection Form 1 https://www.reginfo.gov/public/do/PRA/icrPublicCommentRequest?ref_nbr=202504-1902-003

• FERC Information Collection Form 1-F https://www.reginfo.gov/public/do/PRA/icrPublicCommentRequest?ref_nbr=202504-1902-004

• FERC Information Collection Form 3-Q https://www.reginfo.gov/public/do/PRA/icrPublicCommentRequest?ref_nbr=202504-1902-005

You can also visit https://www.reginfo.gov/public/do/PRAMain and use the drop-down under “Currently under Review” to select the “Federal Energy Regulatory Commission” where you can see the open opportunities to provide comments. Comments should be sent within 30 days of publication of this notice.

Please submit a copy of your comments to the Commission via email to DataClearance@FERC.gov. You must specify the Docket No. (IC25-7-000) and the FERC Information Collection number (FERC Form Nos. 1, 1-F, and 3-Q) in your email. If you are unable to file electronically, comments may be filed by USPS mail or by hand (including courier) delivery:

• Mail via U.S. Postal Service Only: Federal Energy Regulatory Commission, Secretary of the Commission, 888 First Street NE, Washington, DC 20426.

• All other delivery methods: Federal Energy Regulatory Commission, Secretary of the Commission, 12225 Wilkins Avenue, Rockville, MD 20852.

Docket: To view comments and issuances in this docket, please visit https://elibrary.ferc.gov/eLibrary/search. Once there, you can also sign-up for automatic notification of activity in this docket.

FOR FURTHER INFORMATION CONTACT: Kayla Williams may be reached by email at DataClearance@FERC.gov, and telephone at (202) 502-6468.

SUPPLEMENTARY INFORMATION:

Type of Request: Three-year extensions of FERC Form Nos. 1, 1-F, and 3-Q, with no changes to the current reporting requirements.

FERC Form No. 1, Annual Report of Major Electric Utilities, Licensees, and Others

OMB Control Nos. and Titles: 1902-0021 (FERC Form No. 1, Annual Report of Major Electric Utilities, Licensees, and Others).

Abstract: FERC Form No. 1 is a comprehensive financial and operating report submitted annually for electric rate regulation, market oversight analysis, and financial audits by Major electric utilities, licensees, and others. A Major electric utility, licensee, or other reporter is defined as having in each of the last three consecutive calendar years, sales or transmission services that exceed one of the following: (1) one million megawatt-hours of total sales; (2) 100 megawatt-hours of sales for resale; (3) 500 megawatt-hours of power exchanges delivered; or (4) 500 megawatt-hours of wheeling for others (deliveries plus losses).¹

¹ As detailed in 18 CFR 101 (Uniform System of Accounts Prescribed for Public Utilities and Licensees Subject to the Provision of the Federal Power Act, General Instructions) and 18 CFR 141.1.

FERC Form No. 1 is designed to collect financial and operational information and is made available to the public. FERC Form No. 1 includes a basic set of financial statements:

• Comparative Balance Sheet,

• Statement of Income,

• Statement of Retained Earnings,

• Statement of Cash Flows,

• Statement of Accumulated Comprehensive Income, Comprehensive Income, and Hedging Activities, and

• Notes to Financial Statements.

Supporting schedules contain:

• Supplementary information and outlines of corporate structure and governance,

• Information on formula rates, and

• Description of important changes during the year.

Other schedules provide:

• Information on revenues and the related quantities of electric sales and electricity transmitted,

• Account balances for all electric operation and maintenance expenses,

• Selected plant cost data, and

• Other statistical information.

Type of Respondent: Major electric utilities.

Estimate of Annual Burden: ² The Commission estimates the annual burden and cost ³ for FERC Form No. 1 as follows:

² Burden is defined as the total time, effort, or financial resources expended by persons to generate, maintain, retain, disclose, or provide information to or for a Federal agency. For further explanation of what is included in the information collection burden, refer to Title 5 Code of Federal Regulations 1320.3. The burden hours and costs are rounded for ease of presentation.

³ The cost is based on FERC's 2025 Commission-wide average salary cost (salary plus benefits) of $103.00/hour. The Commission staff believes the FERC FTE (full-time equivalent) average cost for wages plus benefits is representative of the corresponding cost for the industry respondents.

Requirements | Number of respondents | Average annual number of responses | Total number of responses | Average annual burden (hrs.) & cost per response ($) | Total average annual burden (hrs.) & total annual cost ($) | Cost per respondent ($)
| (1) | (2) | (1) * (2) = (3) | 4 | (3) * (4) = (5) | (5) ÷ (1)
Form 1 | 216 | 1 | 216 | 1,168; $120,304 | 252,288; $25,985,664 | $120,304
Total |  |  |  |  | 252,288; $25,985,664 | 120,304

FERC Form No. 1-F, Annual Report for Nonmajor Public Utilities and Licensees

OMB Control Nos. and Titles: 1902-0029 (FERC Form No. 1-F, Annual Report for Nonmajor Public Utilities and Licensees).

Abstract: FERC Form No. 1-F is a financial and operating report submitted annually for electric rate regulation, market oversight analysis, and financial audits by Nonmajor electric utilities and licensees. Nonmajor is defined as utilities and licensees that are not classified as Major, and having total sales in each of the last three consecutive years of 10,000 megawatt-hours or more.⁴

⁴ See 18 CFR part 101 (Uniform System of Accounts Prescribed For Public Utilities And Licensees Subject To The Provisions Of The Federal Power Act).

FERC Form No. 1-F is designed to collect financial and operational information and is made available to the public. FERC Form No. 1-F includes a basic set of financial statements:

• Comparative Balance Sheet,

• Statement of Retained Earnings,

• Statement of Cash Flows,

• Statement of Accumulated Other Comprehensive Income and Hedging Activities, and

• Notes to Financial Statements.

Supporting schedules contain:

• Supplementary information and include revenues and the related quantities of electric sales and electricity transmitted,

• Account balances for all electric operation and maintenance expenses,

• Selected plant cost data, and

• Other statistical information.

Type of Respondent: Nonmajor electric utilities.

Estimate of Annual Burden: The estimated annual burden and cost follow. (The estimated hourly cost used for FERC Form No. 1-F is $103/hour (for wages plus benefits) and is described above, under FERC Form No. 1.) The burden hours and costs are rounded for ease of presentation.

Requirements | Number of respondents | Average annual number of responses | Total number of responses | Average annual burden (hrs.) & cost per response ($) | Total average annual burden (hrs.) & total annual cost ($) | Cost per respondent ($)
| (1) | (2) | (1) * (2) = (3) | 4 | (3) * (4) = (5) | (5) ÷ (1)
Form 1-F | 2 | 1 | 2 | 122; $12,566 | 244; $25,132 | $12,566
Total |  |  |  | 244; $25,132 | 12,566 |

FERC Form No. 3-Q, Quarterly Financial Report of Electric Utilities, Licensees, and Natural Gas Companies

OMB Control Nos. and Titles: 1902-0205 (FERC Form No. 3-Q, Quarterly Financial Report of Electric Utilities, Licensees, and Natural Gas Companies).

Abstract: FERC Form No. 3-Q is a quarterly financial and operating report for rate regulation, market oversight analysis, and financial audits which supplements (a) FERC Form Nos. 1 and 1-F, for the electric industry, or (b) FERC Form No. 2 (Annual Report for Major Natural Gas Companies; OMB Control No. 1902-0028) and FERC Form No. 2-A (Annual Report for Nonmajor Natural Gas Companies; OMB Control No. 1902-0030), for the natural gas industry. FERC Form No. 3-Q is submitted for all Major and Nonmajor electric utilities, licensees, and natural gas companies.⁵

⁵ 18 CFR 260.1(b) states that for natural gas companies as defined by the Natural Gas Act, Major pertains to a company whose combined gas transported or stored for a fee exceed 50 million Dth in each of the three previous calendar years. 18 CFR 260.2(b) states that for natural gas companies as defined by the Natural Gas Act, Non-Major pertains to a company not meeting the filing threshold for FERC Form No. 2, but having total gas sales or volume transactions exceeding 200,000 Dth in each of the three previous calendar years.

FERC Form No. 3-Q includes a basic set of financial statements:

• Comparative Balance Sheet,

• Statement of Income and Statement of Retained Earnings,

• Statement of Cash Flows,

• Statement of Accumulated Comprehensive Income, Comprehensive Income and Hedging Activities, and

• Supporting schedules containing supplementary information.

Electric respondents report:

• Revenues and the related quantities of electric sales and electricity transmitted,

• Account balances for all electric operation and maintenance expenses,

• Selected plant cost data, and

• Other statistical information.

Natural gas respondents report:

• Monthly and quarterly quantities of gas transported and associated revenues,

• Storage, terminalling, and processing services,

• Natural gas customer accounts and details of service, and

• Operational expenses, depreciation, depletion, and amortization of gas plant.

Type of Respondent: Major and nonmajor electric utilities, licensees, and major and non-major natural gas companies.

Estimate of Annual Burden: The estimated annual burden and cost (as rounded) follow. (The estimated hourly cost used for FERC Form No. 3-Q is $103/hour (for wages plus benefits) and is described above, under FERC Form No. 1.) The burden hours and costs are rounded for ease of presentation. The quarterly filings are generally a subset of the annual filings.

Burden Table—Form 3-Q—Electric and Gas
Requirements | Number of respondents | Average annual number of responses | Total number of responses | Average annual burden (hrs.) & cost per response ($) | Total average annual burden (hrs.) & total annual cost ($) | Cost per respondent ($)
| (1) | (2) | (1) * (2) = (3) | (4) | (3) * (4) = (5) | (5) ÷ (1)
Form 3-Q (Electric) | 218 | 3 | 654 | 168; $17,304 | 109,872; $11,316,816 | $51,912
Form 3-Q (Gas) | 148 | 3 | 444 | 168; $17,304 | 74,592; $7,682,976 | 51,912
Total |  |  |  |  | 184,464; $18,999,792 | 51,912

For FERC Form No. 3-Q (electric and natural gas), the total average annual burden hours is 184,464, and the total annual cost is $18,999,792.

60-Day Notice Comments

The Commission published a 60-day Notice ⁶ in the Federal Register on February 7, 2025, providing the public with an opportunity to comment on the information collections. In the public notice, the Commission noted that it would be requesting a three-year extension of the public reporting burden with no change to the existing requirements concerning the collection of data. The Bureau of Economic Analysis (BEA), Energy and Policy Institute (EPI), Edison Electric Institute (EEI), and nine electric utility companies ⁷ filed comments.⁸

⁶ 90 FR 9151 (February 7, 2025).

⁷ The nine electric utilities companies are: American Electric Power Service Corporation (AEP); Duke Energy Corporation (Duke Energy); Entergy Services, LLC (Entergy); Exelon Corporation (Exelon); Evergy, Inc. (Evergy); FirstEnergy Service Company (FirstEnergy); Portland General Electric Company (PGE); PPL Services Corporation (PPL); and Southern California Edison Company (SCE) (collectively, Electric Utility Companies).

⁸ The submittals are posted at https://elibrary.ferc.gov under Docket No. IC25-07-000.

Comments Regarding the Necessity, Quality, Utility, and Clarity of the Information Collected, as Well as Ways To Minimize the Burden on Respondents

BEA explains that it uses data from FERC Form Nos. 1 and 1-F indirectly in estimating the United States Census Bureau's Construction Value Put-In Place (VPIP) for electric utilities. BEA further explains that census VPIP serves as a major source data input to the national income and product account (NIPA) structures investment estimates. BEA states that while it uses the information indirectly through the VPIP program, it is considered an indispensable data source to the NIPA estimates.

BEA states that it relies heavily on the data collected in the FERC Form No. 3-Q for the accurate calculation of many key components of both the industry and national economic accounts. BEA argues that data collected in FERC Form No. 3-Q are indispensable to estimates of gross output, intermediate input, and value added in the U.S. economy for the utilities industry (NAICS 22). BEA explains that it uses data from the Energy Information Administration's (EIA) Form 861M for electricity and EIA's natural gas monthly programs as source data for the utilities industry, and that these programs integrate utility and natural gas company financial and operational information from FERC Form No. 3-Q. BEA further explains that it also uses FERC tabulations indirectly to estimate the Census Bureau's construction VPIP for electric, gas, and pipeline utilities. Census' VPIP estimates serve as a major source data input to the national income and product account's NIPA fixed investment in structures estimates. BEA further explains that its fixed asset accounts (FAA) estimates of private fixed investment in structures by the utilities industry rely upon selected FERC data sets published by the EIA.

EEI, AEP, Duke Energy, Entergy, Exelon, FirstEnergy, PGE, and PPL state they are supportive of the Commission's overall objective to achieve vigilant oversight of reporting entities. They believe that the Commission meets this objective through the data presently collected in the annual FERC Form No. 1. They note that FERC Form No. 1 is used, among other things, by the Commission in calculating rates for jurisdictional customers, by state commissions in calculating retail rates, and by various other parties in making investment decisions.

EEI and the Electric Utility Companies filed comments that propose eliminating FERC Form No. 3-Q. They claim that FERC Form No. 3-Q has little to no value to the Commission's objective to achieve vigilant oversight of reporting, argue that FERC Form No. 3-Q does not lend itself to identification of emerging trends or the economic effects of significant transactions and events, and assert that FERC Form No. 3-Q has no bearing on formula rate determinations.

EEI, AEP, Duke Energy, Exelon, PGE, and PPL argue that it is unclear exactly how and to what extent FERC uses the 3-Q quarterly data in its oversight capacity. EEI states that its members have never been contacted about a FERC Form No. 3-Q filing. Similarly, of the Electric Utility Companies filing comments in this proceeding, only Duke Energy and AEP stated that they received requests about the information reported in their FERC Form No. 3-Qs in recent years. In addition, FirstEnergy argues that it could not identify any reference in an audit report or FERC enforcement action to FERC Form No. 3-Q.

EEI and Entergy comment that President Trump's Executive Order, Unleashing Prosperity Through Deregulation, states it is the “policy of the executive branch to be prudent and financially responsible in the expenditure of funds, from both public and private sources, and to alleviate unnecessary regulatory burdens placed on the American people.” ⁹ EEI argues that the clear spirit of the Executive Order is for federal agencies to seek opportunities to reduce or eliminate regulations wherever feasible. As a result, EEI explains that is requesting that the Commission strongly consider what EEI sees as the limited value that FERC Form No. 3-Q has in accomplishing the Commission's oversight mission.

⁹ Exec. Order No. 14,154, 90 FR 8353 (Jan. 20, 2025).

AEP, Duke Energy, PGE, and PPL argue that Order No. 646's ¹⁰ goal to identify and evaluate emerging trends, business conditions, and financial issues, and to identify the economic effects of significant transactions and events cannot be accomplished by FERC Form No. 3-Q. They assert that electric utilities are subject to large seasonal variations, and given that FERC Form No. 3-Q covers only three months of data, it provides an incomplete glimpse into a company's expected annual results. They argue that the administrative burden associated with preparing and filing FERC Form No. 3-Q unnecessarily increases costs to customers.

¹⁰ See Quarterly Financial Reports and Revisions to the Annual Reports, Order No. 646, 106 FERC ¶ 61,113, at PP 11, 16 and 35 (2004).

EEI, AEP, Duke Energy, and FirstEnergy state they, or in the case of EEI, its members, file large quantities of financial, operational, facility, and other information with the Commission and other federal and state agencies. They assert that these filings give a detailed picture of company finances and operations. They note that often FERC Form No. 3-Q filings are due in short and overlapping time frames and while the companies are closing their accounting books and preparing financial reports for other agencies.

EEI, AEP, PGE, and PPL state that the Commission has commented in prior Notice of Information Collections that FERC Form No. 3-Q is used to validate the debt and equity information of filings under Part 34 of the Commission's regulations when the most recent 12-month filing occurred more than four months prior to the application under Part 34. However, they argue that this use of FERC Form No. 3-Q does not justify requiring all jurisdictional utilities to file FERC Form No. 3-Q each quarter. Instead, they suggest that the Commission consider amending the Part 34 filing requirements so that the relevant information is only provided when a Part 34 filing is made. Alternatively, they suggest that Commission staff could use data requests to obtain information needed to validate debt and equity balances.

While their preference is to eliminate FERC Form No. 3-Q entirely, AEP, Duke Energy, Exelon, PGE, and PPL propose two alternative approaches for the Commission to consider. The first suggestion is to require the filing of a single mid-year FERC Form No. 3-Q filed for the six months ended June 30 of each respective year. They argue that this approach would be a reasonable compromise that could provide FERC with the insight needed for oversight and transparency if it deems an interim report is necessary, but would also provide significant and immediate relief to respondents from the tangible and measurable burden of preparing multiple quarterly filings. PPL and AEP argue that reducing the reporting requirements of FERC Form No. 3-Q will reduce the burden and costs ultimately passed to customers.

The second alternative they propose is to limit the quarterly report to the basic set of financial statements discussed in Order No. 646: the Comparative Balance Sheet, Statement of Income, Statement of Retained Earnings, Statement of Cash Flows, Statement of Other Comprehensive Income, and accompanying Notes to the Financial Statements. PGE states that the creation of the basic financial statements is not overly burdensome, and while the development of the notes to the financial statements requires more extensive effort, the overall burden would be greatly reduced by not having to prepare the supplemental schedules. Duke Energy argues that if there is value in identifying trends and reviewing debt and equity balances, the basic set of financial statements would provide sufficient information to do so. FirstEnergy, SCE, and Evergy also generally support limiting the filing to the basic set of financial statements, although they recommend excluding the notes to the financial statements, and Evergy further recommends excluding the Statement of Cash Flows and Statement of Other Comprehensive Income, which, it argues, are burdensome to prepare and not used in ratemaking.

FirstEnergy recommends that the Commission perform a review of each FERC Form No. 3-Q schedule and request comments from stakeholders on the utility of data provided to determine the necessity and usefulness of information and specific pages currently required in FERC Form No. 3-Q. Evergy states that if the Commission is utilizing FERC Form No. 3-Q supplemental page data, the Commission should evaluate whether any of these pages can be eliminated based on relevance and applicability of the pages.

Entergy suggests that the Commission could collect the information in FERC Form No. 3-Q semi-annually, and supplement the information with filings made at the SEC or with direct data requests. EEI and Exelon argue that Commission staff can utilize reports filed with the SEC. They comment that the quarterly report on the SEC Form No. 10-Q includes a full set of financial statements along with Management's Discussion and Analysis, as well as other information. Additionally, EEI and Exelon state that the SEC Form No. 8-K is required to disclose material events typically within four days of the event.

EPI states that it is interested in the Commission requiring more disclosure of expenses charged to certain accounts within the USofA, including an itemized list of expenses in Account 909, Informational and Instructional Expenses; Account 913, Advertising Expenses; Account 923, Outside Services Employed; Account 928, Regulatory Commission Expenses; Account 930.1, General Advertising Expenses; 930.2, Miscellaneous General Expenses; Account 426.1, Donations; Account 426.4; Expenditures for Certain Civic, Political and Related Activities; and Account 426.5, Other Deductions. EPI also recommends revisions to clarify instructions and include additional disclosures on Page 350, Regulatory Commission Expenses, of FERC Form No. 1. EPI recommends additional disclosures and itemization for transactions with associated (affiliated) companies and recommends modifications to enhance reporting of these transactions on page 429, Transactions with Associated (Affiliated) Companies, of FERC Form No. 1. EPI explains that many parties, especially individual ratepayers, lack the resources, access to information, or both that are necessary to challenge the categorization of a cost. EPI argues that through itemization of certain USofA accounts that have been prone to abuse, the Commission can enhance transparency, ensuring just and reasonable rates.

Evergy requests additional instructions on FERC Form Nos. 1 and 3-Q, to explicitly state how information should be reported and what type of details are required for pages 232, Other Regulatory Assets, and 278, Other Regulatory Liabilities. Evergy also states that multiple pages including pages 320-323 and 324-325 are reported differently between FERC Form Nos. 1 and 3-Q. Evergy argues that while some FERC pages contain detail, the detail is not consistent across pages, which results in inconsistent data collection and reporting across the industry. Therefore, Evergy requests additional instructions and clarifications of certain column headings.

FERC Response: The Commission appreciates the comments submitted regarding the necessity, usefulness and ways to minimize burden associated with filing of FERC Form Nos. 1, 1-F, and 3-Q. As previously noted, the Commission uses the information provided on these forms to develop and monitor cost-based rates, conduct market analysis, and perform financial audits, thereby fulfilling its responsibility under the FPA and NGA to ensure that customers pay just and reasonable rates for energy. Additionally, state commissions and other parties use the information provided on these forms for rate development and evaluation and in making investment decisions. In particular, as recognized by EEI and the Electric Utility Companies, FERC Form Nos. 1 and 1-F are critical inputs in the development and updating of formula rates. Regarding FERC Form No. 3-Q, in addition to using the information provided on this form for oversight analysis and the timely evaluation of current financial information, FERC Form No. 3-Q is used to validate the debt and equity information included in filings under Part 34 of the Commission's regulations when the most recent 12-month filing occurred more than 4 months prior to the application. The Commission receives approximately 130 such Part 34 filings in each two-year cycle.

Regarding relying on reports filed with the SEC or other federal and state agencies, as mentioned above, the information included in these reports is not structured in a manner that would meet the Commission's needs under the FPA and NGA. For example, the financial statements filed with the SEC are provided on a consolidated, or parent company, basis and therefore do not provide information at the level of granularity required by the Commission to develop and monitor cost-based rates, conduct market analysis, and perform financial audits. However, the Commission recognizes that there may be opportunities to limit the information required by FERC Form No. 3-Q, reducing the burden on filing parties, while still providing the Commission with the information required to fulfill its responsibilities. While the Commission is not considering modifications to the collection or frequency of collection of FERC Form Nos. 1, 1-F, and 3-Q in this renewal, it may consider doing so in the future, at which time EEI, the Electric Utility Companies, BEA, and other interested parties will be able to submit comments.

With respect to EPI and Evergy's interest in modifying the forms, the Commission recognizes that certain instructions may benefit from updated or clarified language. However, as noted above, the Commission is not considering in this renewal modifications to FERC Form Nos. 1, 1-F, and 3-Q, but may consider doing so in the future, at which time EPI, Evergy, and other interested parties will be able to submit comments on this issue.

Comments Regarding the Commission's Burden Estimate

AEP, Duke Energy, Evergy, Entergy, FirstEnergy, PGE, PPL, and SCE state that, while the time for each respondent to complete FERC Form No. 3-Q varies significantly, as each respondent has different systems and processes, they generally support FERC's estimate of approximately 168 hours of annual effort to prepare FERC Form No. 3-Q. They note that, in addition to the cost of preparing FERC Form No. 3-Q, companies incur additional costs to maintain a software package to support the filing requirements including XBRL tagging and/or to utilize a third-party vendor's software to prepare FERC Form No. 3-Q filings in XBRL. FirstEnergy states that, with the implementation of XBRL requirements, both the software costs and labor burden have increased, and it estimates that each report takes nearly 70 hours per respondent each quarter to complete, or 210 hours annually. Entergy comments that because each of its reports are individually prepared by Entergy Services' accounting employees, there are no economies of scale or efficiencies to be had in their preparation. Entergy Services estimates that the yearly hourly expenditure to prepare and file FERC Form No. 3-Qs is 1,050 hours at a total cost of about $84,000, in addition to the cost of software licenses and other related costs incurred. SCE estimates that it takes their staff approximately 900 hours annually for three quarterly filings. SCE asserts that the required XBRL format has added additional burden without a clear linkage to any benefit by users.

FERC Response: The Commission appreciates the comments providing each company's individual estimate of the total burden, time, and/or costs associated with the quarterly filings. The Commission acknowledges that the burden presented is meant to represent an industry average and that the time for each respondent to complete the forms varies as each respondent has different employee compensation, systems, and processes.

30-Day Notice Comments

Comments: Comments are invited on: (1) whether the collections of information are necessary for the proper performance of the functions of the Commission, including whether the information will have practical utility; (2) the accuracy of the agency's estimates of the burden and cost of the collections of information, including the validity of the methodology and assumptions used; (3) ways to enhance the quality, utility, and clarity of the information collections; and (4) ways to minimize the burden of the collections of information on those who are to respond, including the use of automated collection techniques or other forms of information technology.

Dated: June 16, 2025.
Debbie-Anne A. Reese,
Secretary.

[FR Doc. 2025-11376 Filed 6-18-25; 8:45 am]

BILLING CODE 6717-01-P